ENVIRONMENTAL PROTECTION AGENCY

[EPA-HQ-OPPT-2023-0499; FRL-11938-01-OCSPP]

Agency Information Collection Activities; Proposed New Collection and Request for Comment; Toxic Substances Control Act (TSCA) Section 4 Test Orders for Standardized Testing of Per-and Polyfluoroalkyl Substances (PFAS)

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Toxic Substances Control Act (TSCA) Section 4 Test Orders for the Standardized Testing of Per-and Polyfluoroalkyl Substances (PFAS),” identified by EPA ICR No. 2797.01 and OMB Control No. 2070-NEW. This ICR represents a new request. Before submitting the ICR to OMB for review and approval under the PRA, EPA is soliciting comments on specific aspects of the information collection that is summarized in this document. The ICR and accompanying material are available in the docket for public review and comment.

DATES: Comments must be received on or before January 6, 2025.

ADDRESSES: Submit your comments, identified by docket identification (ID) number EPA-HQ-OPPT-2023-0499, through https://www.regulations.gov. Follow the online instructions for submitting comments. Do not submit electronically any information you consider to be Confidential Business Information (CBI) or other information whose disclosure is restricted by statute. Additional instructions on commenting or visiting the docket, along with more information about dockets generally, is available at https://www.epa.gov/ dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Toxic Substances Control Act (TSCA) Section 4 Test Orders for the Standardized Testing of Per-and Polyfluoroalkyl Substances (PFAS).

EPA ICR No.: 2797.01.

OMB Control No.: 2070-NEW.

ICR status: This ICR is for a new information collection activity. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the submission of information to EPA pursuant to TSCA section 4 for Test Orders on PFAS (15 U.S.C. 2603). Under TSCA, EPA has the authority to issue orders or rules designed to gather or develop information on chemical substances and mixtures. TSCA section 4 authorities allow EPA to require the development of information related to chemicals and the use of prescribed “protocols and methodologies” to inform EPA and other federal agencies about chemical risks from manufacture, distribution in commerce, processing, use, or disposal of such substance or mixture, or any combination of such activities. The testing included in this ICR was informed by the National PFAS Testing Strategy. Data received pursuant to testing associated with this ICR will help inform the National PFAS Testing Strategy and any modifications to the Strategy.

Burden statement: The annual public reporting and recordkeeping burden for this collection of information is estimated to average 137 hours per response. Burden is defined in 5 CFR 1320.3(b).

The ICR, which is available in the docket along with other related materials, provides a detailed explanation of the collection activities and the burden estimate that is only briefly summarized here:

Respondents/affected entities: Entities potentially affected are those that manufacture (including import) and processes chemical substances containing PFAS. The ICR includes a list of potentially affected entities with North American Industrial Classification System (NAICS) codes provided to assist in determining potential applicability.

Respondent's obligation to respond: Mandatory, per 15 U.S.C. 2603.

Frequency of response: On occasion.

Total estimated number of potential respondents: 13.

Total estimated average number of responses for each respondent: 1.

Total estimated annual burden hours: 29,162 hours.

Total estimated annual respondent costs: $131,046,039 total costs, which includes $128,648,300, for laboratory costs.

III. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: November 2, 2024.
Michal Freedhoff,
Assistant Administrator, Office of Chemical Safety and Pollution Prevention.

[FR Doc. 2024-25879 Filed 11-6-24; 8:45 am]

BILLING CODE 6560-50-P